DEPARTMENT OF ENERGY

Federal Energy Regulatory Commission

Notice of Non-Project Use of Project Lands and Soliciting Motions to Intervene, Protests, and Comments

January 14, 2003.

Take notice that the following hydroelectric application has been filed with the Commission and is available for public inspection:

a. Type of Application: Non-Project Use of Project Lands.

b. Project No.: P-2197-058.

c. Date filed: October 30, 2002.

d. Applicant: Alcoa Power Generating Inc.

e. Name and Location of Project: The Yadkin Hydroelectric Project is on the Yadkin/Pee Dee River in Montgomery, Stanley, Davidson, Rowan, and Davie Counties, North Carolina. The Yadkin project contains the following reservoirs: High Rock, Tuckertown, Narrows, and Falls. The project does not occupy any federal lands.

f. Filed Pursuant to: Federal Power Act, 16 U.S.C. §§ 791(a)-825(r).

g. Applicant Contact: Mr. David R. Poe, LeBoeuf, Lamb, Greene & MacRae, LLP, Suite 1200, 1875 Connecticut Ave., NW., Washington, DC, 20009-5728, (202) 986-8039.

h. FERC Contact: Elizabeth Jones (202) 502-8246.

i. Deadline for filing comments, protests, and motions to intervene: February 14, 2003.

All documents (original and eight copies) should be filed with: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (P-2197-058) on any comments or motions filed.

The Commission's rules of practice and procedure require all interveners filing documents with the Commission to serve a copy of that document on each person in the official service list for the project. Further, if an intervener files comments or documents with the Commission relating to the merits of an issue that may affect the responsibilities of a particular resource agency, they must also serve a copy of the document on that resource agency.

j. Description of Application: Alcoa Power Generating, Inc. (Alcoa), licensee for the Yadkin Hydroelectric Project, filed a non-project use of project lands application. In its application, Alcoa proposes to grant a permit to Thomason Development, L.L.C, for the construction of a marina to accommodate 16 watercraft, with 16 additional personal watercraft and for the modification of one preexisting boat launch ramp and one preexisting bulkhead (together, the “Marina Facilities”) within the Project boundary on High Rock Reservoir. Alcoa proposes to grant a second permit to the River's Edge Homeowners Association for the use and operation of the Marina Facilities.

k. This filing is available for review at the Commission in the Public Reference Room or may be viewed on the Commission's Web site at http://www.ferc.gov using the “FERRIS” link. Enter the docket number excluding the last three digits in the docket number field to access the document. For assistance, call toll-free 1-866-208-3676 or e-mail FERCOnlineSupport@ferc.gov . For TTY, call (202) 502-8659.

l. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

m. Filing and Service of Responsive Documents—Any filings must bear in all capital letters the title “COMMENTS”, “NOTICE OF INTENT TO FILE COMPETING APPLICATION”, “COMPETING APPLICATION”, “PROTEST”, “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

n. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-1262 Filed 1-17-03; 8:45 am]

BILLING CODE 6717-01-P